DEPARTMENT OF TRANSPORTATION

Federal Aviation Administration

Notice of Intent To Rule on Request To Release the City From Its Obligations to Operate and Maintain Runway 17/35 for Aeronautical Use at the Lambert-St. Louis International Airport, St. Louis, MO

AGENCY: Federal Aviation Administration (FAA), DOT.

ACTION: Notice of intent to rule on request.

SUMMARY: The FAA proposes to rule and invites public comment on the request to release the City from its obligations to operate and maintain Runway 17/35 for aeronautical use at the Lambert-St. Louis International Airport under the provisions of Section 125 of the Wendell H. Ford Aviation Investment Reform Act for the 21st Century (AIR 21).

DATES: Comments must be received on or before August 22, 2001.

ADDRESSES: Comments on this application may be mailed or delivered in triplicate to the FAA at the following address: Federal Aviation Administration, Central Region, Airports Division, ACE-600, 901 Locust, Kansas City, Missouri 64106-2325. In addition, one copy of any comments submitted to the FAA must be mailed or delivered to Mr. Leonard Griggs, Airport Director, Lambert-St. Louis International Airport, at the following address: City of St. Louis, Missouri, St. Louis International Airport, P.O. Box 10212, Lambert Station, St. Louis, Missouri 63145.

FOR FURTHER INFORMATION CONTACT: Mrs. Nicoletta Oliver, Airports Compliance Specialist, Federal Aviation Administration, Central Region, Airports Division, ACE-615C, 901 Locust, Kansas City, Missouri 64106-2325. The request may be reviewed in person at this same location.

SUPPLEMENTARY INFORMATION: The FAA invites public comment on the request to release the City from its obligations to operate and maintain Runway 17/35 for aeronautical use at the Lambert-St. Louis International Airport under the provisions of Section 125 of the Wendell H. Ford Aviation Investment Reform Act for the 21st Century (AIR 21).

On June 22, 2001, the FAA determined that the request to release the City of its obligations to operate and maintain RW 17/35 for aeronautical use at the Lambert-St. Louis International Airport submitted by the City was substantially complete within the requirements of Section 125 of AIR 21. The FAA will approve or disapprove the request no later than September 10, 2001.

The following is a brief overview of the request.

The Lambert-St. Louis International Airport requests the FAA release the City of its obligations to maintain Runway 17/35 for aeronautical use. This release will allow the runway to be closed and the Boeing Company to construct a development area that will be used for aviation related nonaeronautical purposes. The property remains part of the Lambert-St. Louis International Airport and remains subject to the obligations of the Federal grant agreements.

Any person may inspect the request in person at the FAA office listed above under for further information contact.

Issued in Kansas City, Missouri, on June 28, 2001.
George A. Hendon,
Manager, Airports Division, Central Region.

[FR Doc. 01-18241 Filed 7-20-01; 8:45 am]

BILLING CODE 4910-13-M